SUSQUEHANNA RIVER BASIN COMMISSION

Actions Taken at September 6, 2019, Meeting

AGENCY: Susquehanna River Basin Commission.

ACTION: Notice.

SUMMARY: As part of its regular business meeting held on September 6, 2019, in Big Flats, New York, the Commission approved the applications of certain water resources projects, and took additional actions, as set forth in the SUPPLEMENTARY INFORMATION below.

DATES: September 6, 2019.

ADDRESSES: Susquehanna River Basin Commission, 4423 N Front Street, Harrisburg, PA 17110-1788.

FOR FURTHER INFORMATION CONTACT: Jason E. Oyler, General Counsel and Secretary, telephone: (717) 238-0423, ext. 1312; fax: (717) 238-2436; email: joyler@srbc.net. Regular mail inquiries may be sent to the above address. See also Commission website at www.srbc.net.

SUPPLEMENTARY INFORMATION: In addition to the actions taken on projects identified in the summary above and the listings below, the following items were also presented or acted upon at the business meeting: (1) Informational presentation of interest to the upper Susquehanna River region; (2) proposed rulemaking on consumptive use regulation; (3) approval of three grant agreements; (4) a report on delegated settlements; (5) an emergency certificate extension (6) Regulatory Program projects; and (7) approval of a settlement with Sunoco Pipeline, L.P.

Project Applications Approved

The Commission approved the following project applications:

1. Project Sponsor: Aqua Pennsylvania, Inc. Project Facility: Eagle Rock Utilities Water System, North Union Township, Schuylkill County, Pa. Application for groundwater withdrawal of up to 0.163 mgd (30-day average) from Well ER-8.

2. Project Sponsor and Facility: Chief Oil & Gas LLC (Loyalsock Creek), Forksville Borough, Sullivan County, Pa. Application for renewal of surface water withdrawal of up to 1.500 mgd (peak day) (Docket No. 20150903).

3. Project Sponsor and Facility: Dillsburg Area Authority, Carroll Township, York County, Pa. Application for groundwater withdrawal of up to 0.220 mgd (30-day average) from Well 4.

4. Project Sponsor: Dover Township. Project Facility: Dover Township Water Department, Dover Township, York County, Pa. Application for renewal of groundwater withdrawal of up to 0.350 mgd (30-day average) from Well 9 (Docket No. 19880205).

5. Project Sponsor and Facility: Duncannon Borough, Penn Township, Perry County, Pa. Application for groundwater withdrawal of up to 0.037 mgd (30-day average) from Well 7.

6. Project Sponsor and Facility: Elk Mountain Ski Resort, Inc. (Unnamed Tributary to East Branch Tunkhannock Creek), Herrick Township, Susquehanna County, Pa. Modification to change from peak day to 30-day average for surface water withdrawal and consumptive use limits (Docket No. 20031003).

7. Project Sponsor and Facility: Pennsylvania General Energy Company, L.L.C. (Loyalsock Creek), Plunketts Creek Township, Lycoming County, Pa. Application for surface water withdrawal of up to 2.000 mgd (peak day).

8. Project Sponsor and Facility: Repsol Oil & Gas USA, LLC (Wappasening Creek), Windham Township, Bradford County, Pa. Application for renewal of surface water withdrawal of up to 1.000 mgd (peak day) (Docket No. 20150910).

9. Project Sponsor and Facility: Rockdale Marcellus, LLC (Lycoming Creek), McIntyre Township, Lycoming County, Pa. Application for surface water withdrawal of up to 2.000 mgd (peak day).

10. Project Sponsor and Facility: Seneca Resources Company, LLC (Marsh Creek), Delmar Township, Tioga County, Pa. Application for renewal of surface water withdrawal of up to 0.499 mgd (peak day) (Docket No. 20150908).

11. Project Sponsor and Facility: XTO Energy Inc. (West Branch Susquehanna River), Chapman Township, Clinton County, Pa. Application for renewal of surface water withdrawal of up to 2.000 mgd (peak day) (Docket No. 20150911).

Project Applications Tabled

1. Project Sponsor and Facility: Chester Water Authority, East Nottingham Township, Chester County, Pa. Application for an out-of-basin diversion of up to 60.000 mgd (peak day) from the Susquehanna River and Octoraro Reservoir.

2. Project Sponsor and Facility: Pennsylvania State University, College Township, Centre County, Pa. Application for renewal of consumptive use of up to 2.622 mgd (peak day) (Docket No. 19890106).

3. Project Sponsor and Facility: Pennsylvania State University, College Township, Centre County, Pa. Application for renewal of groundwater withdrawal of up to 1.728 mgd (30-day average) from Well UN-33 (Docket No. 19890106).

4. Project Sponsor and Facility: Pennsylvania State University, College Township, Centre County, Pa. Application for renewal of groundwater withdrawal of up to 1.678 mgd (30-day average) from Well UN-34 (Docket No. 19890106).

5. Project Sponsor and Facility: Pennsylvania State University, College Township, Centre County, Pa. Application for renewal of groundwater withdrawal of up to 1.728 mgd (30-day average) from Well UN-35 (Docket No. 19890106).

6. Project Sponsor and Facility: Chester Water Authority, East Nottingham Township, Chester County, Pa. Application for an out-of-basin diversion of up to 60.000 mgd (peak day) from the Susquehanna River and Octoraro Reservoir.

Authority: Pub. L. 91-575, 84 Stat. 1509 et seq., 18 CFR parts 806, 807, and 808.

Dated: September 12, 2019.
Jason E. Oyler,
General Counsel and Secretary to the Commission.

[FR Doc. 2019-20080 Filed 9-16-19; 8:45 am]

BILLING CODE 7040-01-P